DEPARTMENT OF HEALTH AND HUMAN SERVICES

Centers for Disease Control and Prevention

[Program Announcement 02190]

Support for Strengthening Voluntary Counseling and Testing Services and Expansion of Tuberculosis (TB) Diagnosis, Treatment and Prevention in the Republic of Uganda; Notice of Availability of Funds

A. Purpose

The Centers for Disease Control and Prevention (CDC) announces the availability of fiscal year (FY) 2002 funds for a cooperative agreement program to strengthen the capacity of existing voluntary counseling and testing (VCT) services and to expand TB diagnosis, treatment, referral and prevention within VCT sites in the Republic of Uganda.

Goals

1. Improve the quality and expand laboratory and data management capacity in four stand-alone VCT sites that provide VCT services to their own clients and technical and program support to affiliated VCT sites in the Republic of Uganda.

2. Support TB diagnosis, treatment, and prevention activities in the four main sites while screening and referral will be provided in the affiliated sites.

3. Support other targeted HIV/AIDS prevention and care interventions within the context of VCT services at these centers.

CDC has established partnerships with local and international non-governmental organizations, the Ugandan Ministry of Health, and the Uganda AIDS Commission in discovering and applying effective interventions to prevent HIV infection and associated opportunistic infections and subsequent deaths from Human Immunodeficiency Virus/Acquired Immune Deficiency Syndrome (HIV/AIDS).

As a key partner in the United States (U.S.) Government's international activities, CDC is working in a collaborative manner with national governments and other agencies to develop programs of assistance to address the HIV/AIDS epidemic in many countries.

TB prevention and treatment programs that are provided in an integrated manner in an existing VCT service is one potential way of improving current VCT services in Uganda. Tuberculosis diagnosis, treatment, and prophylaxis using Isoniazid for Purified Protein Derivative (PPD) positive persons with HIV have been shown to be feasible to add to existing VCT services in Uganda.

This program will also support the documentation and production of counseling protocols adapted to address new psycho-social needs related to (VCT). This will contribute to improvements in counseling provided to individuals and couples.

Measurable outcomes of the program will be in alignment with one or more of the following performance goals for the Global AIDS Program (GAP):

Reduce the number of new HIV infections among 15 to 24 year olds in sub-Saharan Africa from an estimated two million by 2005 by working with other countries, United States Agency for International Development (USAID), international, and U.S. government agencies.

B. Authority and Catalog of Federal Domestic Assistance Number

This program is authorized under section 307 of the Public Health Service Act, [42 U.S.C. section 242l], as amended. The Catalog of Federal Domestic Assistance number is 93.118. There are no matching requirements for this program announcement.

C. Eligible Applicants

Assistance will be provided only to Ugandan non-governmental organizations with more than five years of experience in the implementation of voluntary counseling and testing services in multiple rural locations of Uganda. The applicants should have at least one year of experience in implementing an integrated TB program within existing VCT services.

D. Availability of Funds

Approximately U.S. $200,000 is available in FY 2002 to fund one award. It is expected that the award will begin on or about August 30, 2002 and will be made for a 12-month budget period within a project period of three (3) years. Funding estimates may change.

Continuation awards within an approved project period will be made on the basis of satisfactory progress as evidenced by required reports and the availability of funds.

Use of Funds

Funds may only be utilized to implement activities as described in the goals, objectives, and activities of the submitted and funded program.

The purchase of antiretroviral, reagents, and laboratory equipment for antiretroviral treatment projects requires pre-approval from the Global AIDS Program Headquarters.

Applicants may contract with other organizations under this cooperative agreement, however, applicants must perform a substantial portion of the activities (including program management and operations and delivery of prevention services for which funds are requested).

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the U.S. or to international organizations regardless of their location.

All requests for funds, including the budget contained in the application, will be stated in U.S. dollars. Once an award is made, the Department of Health and Human Services (DHHS) will not compensate foreign grantees for currency exchange fluctuations through the issuance of supplemental awards.

No funds appropriated under this Act will be used to carry out any program of distributing sterile needles or syringes for the hypodermic injection of any illegal drug.

E. Program Requirements

In conducting activities to achieve the purpose of this program, the recipient will be responsible for the activities under “1. Recipient Activities,” and CDC will be responsible for the activities listed under “2. CDC Activities.”

1. Recipient Activities

a. Identify staffing needs; hire and train staff.

b. Identify and acquire programmatic needs, including space, furnishings, fittings, equipment, and computers.

c. Establish maintenance contracts for program facilities, equipment, and fittings.

d. Carry out training needs assessment for medical and counseling staff as needed.

e. Produce training manuals and referral and treatment algorithms.

f. Identify and subcontract refresher training for all relevant staff in the specific areas identified.

g. Acquire source reagents, and other clinic and laboratory supplies.

h. Develop and implement monitoring and evaluation plans, customized for each program component.

i. Provide training in new content areas through apprenticeships and other skills development methodologies.

j. Procure, supply, and maintain VCT sites with materials required for TB clinical activities.

k. Develop and establish a regular distribution system for diagnostic and other supplies in all participating VCT sites.

l. Schedule regular supervisory visits for new program activities.

m. Develop a data management plan and provide training for all relevant staff.

n. Initiate collaborations with National TB and Leprosy Program, Ministry of Health and other relevant institutions.

o. Establish administrative and management systems for the program.

p. Prepare and submit quarterly progress activity and financial reports.

2. CDC Activities

a. Monitor project and budget performance.

b. Approve the selection of key personnel to be involved in the activities performed under this cooperative agreement.

c. Provide technical assistance in the design and implementation of a monitoring and evaluation plan and other programmatic areas as needed.

d. Assist in the planning for data management and analysis.

e. Participate in training activities.

f. Provide technical and programmatic oversight to the program.

g. Collaborate with recipient in writing papers for publication or other dissemination activities if needed.

F. Content

The program announcement title and number must appear in the application. Use the information in the Program Requirements, Other Requirements, and Evaluation Criteria sections to develop the application content. Your application will be evaluated on the criteria listed, so it is important to follow them in laying out your program plan. The narrative should be no more than 25 double-spaced pages, printed on one side, with a one-inch margins, and unreduced font.

Each activity for which funds are requested should be specifically identified with goals, Plan, Objectives, Activities, Method of Evaluation and Budget provided. A summary budget by line item should be provided.

G. Submission and Deadline

Submit the original and two copies of PHS 5161-1 (OMB Number 0920-0428). Forms are available in the application kit and at the following Internet address: http://www.cdc.gov/od/pgo/forminfo.htm.

Application forms must be submitted in the following order:

Cover Letter

Table of Contents

Application

Budget Information Form

Budget Justification

Checklist

Assurances

Certifications

Disclosure Form

HIV Assurance Form (if applicable)

Human Subjects Certification (if applicable)

Indirect Cost Rate Agreement (if applicable)

Narrative

On or before 5:00 p.m. Eastern Time July 30, 2002, submit the application to: Technical Information Management Section (TIM), PA# 02190, Procurement and Grants Office, Centers for Disease Control and Prevention (CDC), 2920 Brandywine Road, Room 3000, Atlanta, GA 30341-4146.

Deadline: Applications will be considered as meeting the deadline if they are received before 5:00 p.m. Eastern Time on the deadline date. Applicants sending applications by the United States Postal Service or commercial delivery services must ensure that the carrier will be able to guarantee delivery of the application by the closing date and time. If an application is received after closing due to: 1. Carrier error, when the carrier accepted the package with a guarantee for delivery by the closing date and time; or 2. significant weather delays or natural disasters, CDC will upon receipt of proper documentation, consider the application as having been received by the deadline.

Applications that do not meet the above criteria will not be eligible for competition and will be discarded. Applicants will be notified of their failure to meet the submission requirements.

H. Evaluation Criteria

Application

Applicants are required to provide Measures of Effectiveness that will demonstrate the accomplishment of the various identified objectives of the grant or cooperative agreement. Measures of Effectiveness must relate to the performance goal (or goals) as stated in section “A. Purpose” of this announcement. Measures must be objective and quantitative and must measure the intended outcome. These Measures of Effectiveness will be submitted with the application and will be an element of evaluation.

Each application will be evaluated individually, against the following criteria by an independent review group appointed by CDC.

1. Program Capacity (25 Points)

The proposal should demonstrate capacity and experience needed to implement a project of this magnitude and scope including infrastructure, staffing levels and laboratory capacity.

2. Personnel (25 Points)

The extent that professional personnel involved in this project are qualified including evidence of experience in working in ACT and TB diagnosis, treatment and prevention programs.

3. Program Plan (20 Points)

The proposal demonstrates capacity and plans to rapidly roll out this program to multiple sites in the country.

4. Understanding of the Problem (15 Points)

The extent that the applicants demonstrate a clear and concise understanding of the HIV/AIDS epidemic in Uganda specifically the gaps in current prevention efforts including voluntary counseling and testing.

5. Technical and Programmatic Approach (15 Points)

The extent that the applicants' proposal demonstrates an understanding of how to develop, implement, monitor and evaluate an integrated VCT and TB program.

6. Budget (Will Review But Not Scored)

The extent that the itemized budget for conducting the project is reasonable and well justified.

7. Human Subjects (Not Scored)

The extent that the application adequately addresses the requirements listed in the 45 CFR 46 for the protection of human subjects.

I. Other Requirements

Technical Reporting Requirements

Provide CDC with original plus two copies of the following:

1. Quarterly progress reports. (The progress report will include a data requirement that demonstrates measures of effectiveness.)

2. Final financial and performance reports, no more than 90 days after the end of the project period.

3. Financial status report, no more than 90 days after the end of budget period.

4. Applicants are required to provide Measures of Effectiveness that will demonstrate the accomplishment of the various identified objectives of the grant or cooperative agreement.

Awardee is required to obtain an annual audit of these CDC funds (program specific audit by an audit firm based in the U.S. with international branches and current licensure/authority in country, and in accordance with the international accounting standards of equivalent standards approved in writing by CDC.

Projects that involve the collection of information from 10 or more individuals and funded by cooperative agreement will be subject to review by the office of management and budget (OMB) under the paperwork reduction act.

A fiscal recipient capability assessment may be required with the potential awardee, prior or post award, in order to review business management and fiscal capabilities regarding the handling of U.S. Federal funds.

Send all reports to both the program contact in Uganda and Grants Management Specialist identified in the “Where to Obtain Additional Information” section of this announcement.

The following additional requirements are applicable to this program. For a complete description of each, see Attachment I of the announcement. Some of the more complex requirements have additional information provided below:

AR-1—Human Subjects Requirements

AR-2—Requirements for Inclusion of Women and Racial and Ethnic Minorities in Research

AR-4—HIV/AIDS Confidentiality Provisions

AR-6—Patient Care

AR-9—Paperwork Reduction Act Requirements

AR-10—Smoke-Free Workplace Requirements

AR-14—Accounting System Requirements

J. Where To Obtain Additional Information

This and other CDC announcements can be found on the CDC home page Internet address— http://www.cdc.gov

Click on “Funding” then “Grants and Cooperative Agreements.”

To obtain business management technical assistance, contact: Dorimar Rosado, Grants Management Specialist, Grants Management Branch, Procurement and Grants Office, Centers for Disease Control and Prevention, 2920 Brandywine Road, Room 3000, Atlanta, GA 30341-4146, Telephone: (770) 488-2782, E-mail: dpr7@cdc.gov.

For program technical assistance, contact: Jonathan Mermin, MD, MPH, Global AIDS Program, Uganda Country Team, National Center for HIV, STD and TB Prevention, Centers for Disease Control and Prevention, PO Box 49, Entebbe, Uganda, Telephone: +256-410320776, E-mail: jhm@cdc.gov.

Dated: May 24, 2002.
Sandra R. Manning,
CGFM, Director, Procurement and Grants Office, Centers for Disease Control and Prevention (CDC).

[FR Doc. 02-13635 Filed 5-30-02; 8:45 am]

BILLING CODE 4163-18-P